DEPARTMENT OF THE INTERIOR

Fish and Wildlife Service

DEPARTMENT OF COMMERCE

National Oceanic and Atmospheric Administration

Papahānaumokuākea Marine National Monument, Hawai'i; Monument Management Plan

AGENCIES: U.S. Fish and Wildlife Service (FWS), Interior; National Oceanic and Atmospheric Administration (NOAA), Commerce.

ACTION: Notice; Preparation of a management plan, and environmental assessment.

SUMMARY: This notice advises the public that NOAA, FWS, and the Department of Land and Natural Resources, State of Hawai'i (DLNR) intend to prepare a Monument Management Plan (Monument Plan) and associated environmental assessment for the Papahānaumokuākea Marine National Monument in the Northwestern Hawaiian Islands and surrounding marine areas. The Monument Plan will modify NOAA's existing Northwestern Hawaiian Islands Proposed National Marine Sanctuary Draft Management Plan, and incorporate FWS refuge comprehensive conservation planning (CCP) requirements, DLNR planning needs, and other elements to reflect the area's new status as a national monument.

DATES: Any written comments must be received by June 4, 2007.

ADDRESSES: Send written comments to Don Palawski, Monument Plan Coordinator, U.S. Fish and Wildlife Service, 300 Ala Moana Boulevard, Box 50167, Honolulu, HI 96850-5000; or via e-mail to PMNM_MMP_Comments@fws.gov.

FOR FURTHER INFORMATION CONTACT: Don Palawski, Monument Plan Coordinator, U.S. Fish and Wildlife Service, 300 Ala Moana Boulevard, Box 50167, Honolulu, HI 96850-5000; phone (808) 792-9560, or fax (808) 792-9585.

SUPPLEMENTARY INFORMATION: On June 15, 2006, President George W. Bush established the Northwestern Hawaiian Islands Marine National Monument by issuing Presidential Proclamation 8031 (Proclamation) (71 FR 36443, June 26, 2006) under the authority of the Antiquities Act (16 U.S.C. 431) (Act). On February 28, 2007, President Bush amended the Proclamation to give it a Native Hawaiian name, chosen by Native Hawaiians, that reflects Hawaiian language and culture. On March 2, 2007, the First Lady, Mrs. Laura Bush, presented the new name, Papahānaumokuākea Marine National Monument, to the public.

Proclamation 8031 reserves all lands and interests in lands owned or controlled by the Government of the United States in the Northwestern Hawaiian Islands (NWHI), including emergent and submerged lands and waters out to a distance of approximately 50 nautical miles (nmi) from the islands. The Monument is approximately 100 nmi wide and extends approximately 1,200 miles around coral islands, seamounts, banks, and shoals. The area includes the Northwestern Hawaiian Islands Coral Reef Ecosystem Reserve, the Midway Atoll National Wildlife Refuge/Battle of Midway National Memorial, the Hawaiian Islands National Wildlife Refuge, the Hawai'i State Seabird Sanctuary at Kure Atoll, and NWHI State Marine Refuge. The Secretaries of Commerce and the Interior, and the Governor of Hawai'i signed a Memorandum of Agreement on December 8, 2006, to jointly manage Federal and State lands and waters within the Monument as Co-Trustees, to collectively protect, conserve, and enhance Monument fish, plant, and wildlife habitats, including coral reefs and other marine and terrestrial resources.

During the last 5 years, as part of the National Marine Sanctuary designation process, NOAA actively sought input from Federal and State entities, Native Hawaiian leaders, the Northwestern Hawaiian Islands Coral Reef Ecosystem Reserve Advisory Council, and the public to develop a Draft Sanctuary Management Plan (available on the Internet at: http://www.hawaiireef.noaa.gov). More than 52,000 public comments were received during the sanctuary designation process. The Proclamation recognizes these efforts by directing the Secretary of Commerce, in consultation with the Secretary of the Interior and the State of Hawai'i, to modify, as appropriate, the draft Sanctuary Management Plan for management of the Monument. Another document relevant to Monument management, the Draft Interim Visitor Services Plan for the Midway Atoll National Wildlife Refuge, the Battle of Midway National Memorial, and the Northwestern Hawaiian Islands Marine National Monument's Midway Atoll Special Management Area, was distributed for public review in December 2006. Comments submitted during the Sanctuary designation process and comments received on Midway's Visitor Services Plan regarding issues that are subject to decision by the Co-Trustees (that is, not already decided by the President and memorialized in the Proclamation) will be considered when the agencies are determining the scope of the Monument Plan and during development of the Draft Monument Plan. Any additional comments at this stage should be focused on any new environmental issues identified as a result of new information or changed circumstances since the comment periods identified above. The Co-Trustees will develop co-management strategies and activities to meet the needs of FWS, NOAA, and DLNR in the Monument Plan.

The National Wildlife Refuge System Administration Act of 1966 (Refuge Administration Act), as amended by the National Wildlife Refuge System Improvement Act of 1997 (16 U.S.C. 668dd-668ee), requires the FWS to develop a comprehensive conservation plan (CCP) for each national wildlife refuge. The purpose in developing a CCP is to provide refuge managers with a 15-year strategy for achieving refuge purposes and contributing toward the mission of the National Wildlife Refuge System, consistent with sound principles of fish and wildlife management, conservation, legal mandates, and FWS policies. In addition to outlining broad management direction on conserving wildlife and their habitats, CCPs identify wildlife-dependent recreational opportunities available to the public. The State maintains its existing responsibility for managing State waters in the Monument, including the NWHI State Marine Refuge and Hawai'i State Seabird Sanctuary at Kure Atoll. NOAA maintains responsibility for the NWHI Coral Reef Ecosystem Reserve, included within the Monument, and has primary responsibility regarding the management of the marine areas of the Monument, in consultation with FWS.

It is the intent of the Co-Trustees to integrate agency planning and operational needs into a single Monument Plan. A draft Monument Plan will be distributed for public review and comment early in 2008. The Co-Trustees will also develop an environmental assessment in accordance with the requirements of the National Environmental Policy Act of 1969 (NEPA), as amended (42 U.S.C. 4321 et seq.); NEPA Regulations (40 CFR parts 1500-1508); other appropriate Federal laws and regulations; and agency policies and procedures for compliance with those regulations.

Public Availability of Comments

Before including your address, phone number, e-mail address, or other personal identifying information in your comment, you should be aware that your entire comment—including your personal identifying information—may be made publicly available at any time. While you can ask us in your comment to withhold your personal identifying information from public review, we cannot guarantee that we will be able to do so.

Agency Points of Contact

FWS: Barry Stieglitz, Monument Project Leader (USFWS); Hawaiian and Pacific Islands NWR Complex, 300 Ala Moana Boulevard, Box 50167, Honolulu, HI 96850-5000; phone (808) 792-9540.

NOAA: T. Aulani Wilhelm, Monument Superintendent (NOAA); 6600 Kalaniana'ole Highway, #300, Honolulu, HI 96825; phone (808) 397-2657.

State of Hawai'i: Athline Clark, Special Projects Manager, Department of Land and Natural Resources, Division of Aquatic Resources; 1151 Punchbowl Street, Room 330, Honolulu, HI 96813; phone (808) 587-0099.

Dated: March 28, 2007.
David J. Wesley,
Acting Regional Director, Fish and Wildlife Service, Region 1, Portland, Oregon.
Elizabeth Scheffler,
Chief Financial Officer, National Ocean Service, National Oceanic and Atmospheric Administration, Silver Spring, Maryland.

[FR Doc. 07-1652 Filed 4-3-07; 8:45 am]

BILLING CODE 4310-55-P